DEPARTMENT OF THE INTERIOR

National Park Service

[N6355; NPS-WASO-NAGPRA-NPS0040611; PPWOCRADN0-PCU00RP14.R50000]

Notice of Inventory Completion: University of California, Merced, Merced, CA

AGENCY: National Park Service, Interior.

ACTION: Notice.

SUMMARY: In accordance with the Native American Graves Protection and Repatriation Act (NAGPRA), the University of California, Merced (UC Merced) has completed an inventory of human remains and has determined that there is a cultural affiliation between the human remains and Indian Tribes or Native Hawaiian organizations in this notice.

DATES: Repatriation of the human remains in this notice may occur on or after August 28, 2025.

ADDRESSES: Send written requests for repatriation of the human remains in this notice to Robin Maria DeLugan, University of California, 5200 Lake Road, Merced, CA 95343, email rdelugan@ucmerced.edu.

SUPPLEMENTARY INFORMATION: This notice is published as part of the National Park Service's administrative responsibilities under NAGPRA. The determinations in this notice are the sole responsibility of the UC Merced and additional information on the determinations in this notice, including the results of consultation, can be found in its inventory or related records. The National Park Service is not responsible for the determinations in this notice.

Abstract of Information Available

Human remains representing two individuals have been identified. No associated funerary objects are present. The crania of an adult and a youth, likely Native American per observation by two UC Merced biological anthropologists, were found in a house off Hwy. 49, Oakhurst, CA, when the deceased owner's home was cleared out. The human remains were brought to a UC Merced professor of archaeology sometime after 2010. Only after the professor's retirement did campus become aware of these human remains. They are in the wooden crate and in the same condition as found in the house. The person who brought the crania to campus told us that the homeowner had found the crania on his property. There are no funerary or other associated objects. They continue to be held in a safe and secure location on campus.

Based on geographical location and information provided during consultation, the human remains are affiliated to Miwok, Mono, and Yokut Tribes. The following federally recognized Miwok, Mono, and Yokut Tribes have an interest in Madera County, CA: Big Sandy Rancheria of Western Mono Indians, California Valley Miwok Tribe, Chicken Ranch Rancheria of Me-Wuk Indians, North Fork Rancheria of Mono Indians, Picayune Rancheria of Chukchansi Indians, Tule River Indian Tribe, and Tuolumne Band of Me-Wuk Indians.

Cultural Affiliation

Based on the information available and the results of consultation, cultural affiliation is reasonably identified by the geographical location or acquisition history of the human remains described in this notice.

Determinations

The UC Merced has determined that:

• The human remains described in this notice represent the physical remains of two individuals of Native American ancestry.

• There is a connection between the human remains described in this notice and the Big Sandy Rancheria of Western Mono Indians of California; California Valley Miwok Tribe, California; Chicken Ranch Rancheria of Me-Wuk Indians of California; Northfork Rancheria of Mono Indians of California; Picayune Rancheria of Chukchansi Indians of California; Tule River Indian Tribe of the Tule River Reservation, California; and the Tuolumne Band of Me-Wuk Indians of the Tuolumne Rancheria of California.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after August 28, 2025. If competing requests for repatriation are received, the UC Merced must determine the most appropriate requestor prior to repatriation. Requests for joint repatriation of the human remains are considered a single request and not competing requests. The UC Merced is responsible for sending a copy of this notice to the Indian Tribes and Native Hawaiian organizations identified in this notice.

Authority: Native American Graves Protection and Repatriation Act, 25 U.S.C. 3003, and the implementing regulations, 43 CFR 10.10.

Dated: July 9, 2025.
Melanie O'Brien,
Manager, National NAGPRA Program.

[FR Doc. 2025-14257 Filed 7-28-25; 8:45 am]

BILLING CODE 4312-52-P